DEPARTMENT OF THE TREASURY

Office of Foreign Assets Control

Notice of OFAC Sanctions Actions

AGENCY: Office of Foreign Assets Control, Treasury.

ACTION: Notice.

SUMMARY: The U.S. Department of the Treasury's Office of Foreign Assets Control (OFAC) is publishing the names of one or more persons that have been placed on OFAC's Specially Designated Nationals and Blocked Persons List (SDN List) based on OFAC's determination that one or more applicable legal criteria were satisfied. All property and interests in property subject to U.S. jurisdiction of these persons are blocked, and U.S. persons are generally prohibited from engaging in transactions with them.

DATES: See Supplementary Information section for applicable date(s).

FOR FURTHER INFORMATION CONTACT: OFAC: Andrea Gacki, Director, tel.: 202-622-2490; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Action(s)

On December 8, 2021, OFAC determined that the property and interests in property subject to U.S. jurisdiction of the following persons are blocked under the relevant sanctions authorities listed below.

Individuals

1. RADOJCIC, Milan Rajko (a.k.a. “RADOICIC, Milan”; a.k.a. “RADOJICIC, Milan”), Serbia; Lola Ribar Street, number 58/7, Mitrovica, Kosovo; DOB 21 Feb 1978; POB Djakovica, Kosovo; nationality Kosovo; Gender Male; Driver's License No. 20177871 (Kosovo); Identification Number 1174669941 (individual) [GLOMAG].

Designated pursuant to section 1(a)(ii)(C)(1) of Executive Order 13818 of December 20, 2017, “Blocking the Property of Persons Involved in Serious Human Rights Abuse or Corruption,” 82 FR 60839, 3 CFR, 2018 Comp., p. 399, (E.O. 13818) for being a foreign person who is or has been a leader or official of an entity, including any government entity, that has engaged in, or whose members have engaged in, corruption, including the misappropriation of state assets, the expropriation of private assets for personal gain, corruption related to government contracts or the extraction of natural resources, or bribery, relating to the leader's or official's tenure.

2. VESELINOVIC, Zharko Jovan (a.k.a. “VESELINOVIC, Zarko”), Kralj Peter St., Mitrovica, Kosovo; DOB 23 Feb 1985; POB Dolane Village, Zvecan, Kosovo; nationality Serbia; alt. nationality Kosovo; Gender Male; Driver's License No. 2806 (Serbia); Identification Number 1502145386 (individual) [GLOMAG].

Designated pursuant to section 1(a)(ii)(C)(1) of E.O. 13818 for being a foreign person who is or has been a leader or official of an entity, including any government entity, that has engaged in, or whose members have engaged in, corruption, including the misappropriation of state assets, the expropriation of private assets for personal gain, corruption related to government contracts or the extraction of natural resources, or bribery, relating to the leader's or official's tenure.

3. LUNA MEZA, Osiris (a.k.a. LUNA, Osiris), San Salvador, El Salvador; DOB 08 Feb 1989; POB San Salvador, El Salvador; nationality El Salvador; Gender Male; Passport A04056212 (El Salvador) expires 11 Aug 2020; National ID No. 040562123 (El Salvador) (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to government contracts or the extraction of natural resources, or bribery.

4. MARROQUIN CHICA, Carlos Amilcar, Mejicanos, El Salvador; DOB May 1986; POB San Salvador, El Salvador; nationality El Salvador; Gender Male; Passport B03539817 (El Salvador) expires 19 Sep 2024; National ID No. 035398179 (El Salvador) (individual) [GLOMAG].

Designated pursuant to section 1(a)(ii)(B)(1) of E.O. 13818 for being a foreign person who is a current or former government official, or a person acting for or on behalf of such an official, who is responsible for or complicit in, or has directly or indirectly engaged in, corruption, including the misappropriation of state assets, the expropriation of private assets for personal gain, corruption related to government contracts or the extraction of natural resources, or bribery.

5. MEZA OLIVARES, Alma Yanira, San Salvador, El Salvador; DOB 15 Jul 1963; POB San Salvador, El Salvador; nationality El Salvador; Gender Female; Passport A01497316 (El Salvador) expires 10 Dec 2019; National ID No. 014973168 (El Salvador) (individual) [GLOMAG] (Linked To: LUNA MEZA, Osiris).

Designated pursuant to section 1(a)(iii)(A)(1) of E.O. 13818 for having materially assisted, sponsored, or provided financial, material, or technological support for, or goods or services to or in support of, Osiris LUNA MEZA, a person whose property and interests in property are blocked pursuant to E.O. 13818.

6. VESELINOVIC, Zvonko, Kralj Peter St., Mitrovica, Kosovo; DOB 30 Dec 1980; POB Dolane Village, Zvecan, Kosovo; nationality Kosovo; alt. nationality Serbia; Gender Male (individual) [GLOMAG].

Designated pursuant to section 1(a)(ii)(C)(1) of E.O. 13818 for being a foreign person who is or has been a leader or official of an entity, including any government entity, that has engaged in, or whose members have engaged in, corruption, including the misappropriation of state assets, the expropriation of private assets for personal gain, corruption related to government contracts or the extraction of natural resources, or bribery, relating to the leader's or official's tenure.

7. BOJIC, Andrija Zheljko, Kosovo; DOB 02 Mar 1993; Gender Male (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

8. BOJIC, Zeljko (a.k.a. BOJIC, Zeljko Radoslav), Lole Ribar Street, Number L3/10/2, Mitrovica North, Kosovo; DOB 16 Jul 1969; POB Mitrovica, Kosovo; nationality Kosovo; Gender Male; Passport P00608659 (Kosovo) expires 19 Mar 2025 (individual) [GLOMAG] (Linked To: VESELINOVIC, Zvonko).

Designated pursuant to section 1(a)(iii)(A)(1) of E.O. 13818 for having materially assisted, sponsored, or provided financial, material, or technological support for, or goods or services to or in support of Zvonko VESELINOVIC, a person whose property and interests in property are blocked pursuant to E.O. 13818.

9. MIHAJLOVIC, Milan, Susica Village, Kosovo; DOB 27 Apr 1983; POB Nis, Republic of Serbia; nationality Serbia; Gender Male; Identification Number 2704983730021 (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

10. NEDELJKOVIC, Sinisa (a.k.a. “METAL, Senisa”; a.k.a. “NEDELJKOVIC, Sinis”; a.k.a. “NEDELJKOVIC, Sinisa Stevan”), Kral Petar Street, Zvecan, Kosovo; DOB 26 Mar 1970; POB Zvecan, Kosovo; nationality Kosovo; alt. nationality Serbia; Gender Male; Identification Number 1501722452 (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

11. RADIC, Radovan, Kosovo; DOB 19 Oct 1981; nationality Serbia; Gender Male; Identification Number 005221713 (Serbia) expires 25 Mar 2024 (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

12. RADISAVLJEVIC, Miljojko (a.k.a. “RADISAVLJEVIC, Milojko”), Donji Jasenovik, Zubin Potok, Kosovo; DOB 23 Apr 1978; POB Village Babudovici, Zubin Potok, Kosovo; nationality Serbia; Gender Male (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

13. RADISAVLJEVIC, Miljan, Donji Jasenovik, Zubin Potok, Kosovo; DOB 10 Dec 1972; POB Village Babudovici, Zubin Potok, Kosovo; nationality Serbia; Gender Male; Identification Number 1502104612 (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

14. ROSIC, Marko, Kosovo; DOB 28 Jun 1993; POB Mitrovica, Kosovo; Gender Male (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

15. STEVIC, Radule (a.k.a. “STEVIC, Rade”), Kral Petar Street, Zvecan, Kosovo; DOB 02 Jun 1970; POB Leposavic, Kosovo; nationality Serbia; Gender Male; Identification Number 1501796081 (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

16. VULOVIC, Srdjan Milivoje, Kosovo; DOB 03 Dec 1975; POB Ostrace, Leposavic Municipality, Kosovo; nationality Kosovo; Gender Male (individual) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

Entities

1. BETONJERKA DOO ALEKSINAC (a.k.a. PRIVREDNO DRUSTVO ZA PROIZVODNJU BETONSKIH STUBOVA, TRAFO-STANICA I PRATECIH ELEMENATA ZA IZGRADNJU I ODRZAVANJE ELEKTROENERGETSKIH OBJEKATA BETONJERKA DOO ALEKSINAC), Autoput Bb, Aleksinac 18220, Serbia; Organization Established Date 28 Feb 1992; Organization Type: Manufacture of articles of concrete, cement and plaster; V.A.T. Number 100302988 (Serbia) [GLOMAG] (Linked To: INKOP DOO CUPRIJA).

Designated pursuant to section 1(a)(iii)(B) of E.O. 13818 for being owned or controlled by, or having acted or purported to act for or on behalf of, directly or indirectly, INKOP DOO CUPRIJA, a person whose property and interests in property are blocked pursuant to E.O. 13818.

2. CIVIJA KOMERC (a.k.a. SAMOSTALNA TRGOVINSKA RADNJA CIVIJA KOMERC ZVONKO VESELINOVIC PREDUZETNIK SABAC), Macvanska 65, Sabac 15000, Serbia; Organization Established Date 22 Mar 2000; Organization Type: Sale of motor vehicle parts and accessories; V.A.T. Number 100081430 (Serbia) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

3. DOLLY BELL DOO BEOGRAD-NOVI BEOGRAD (a.k.a. “DOLLY BELL”), Partizanske Avijacije 4/III, Belgrade 11000, Serbia; Organization Established Date 12 May 2015; V.A.T. Number 108981819 (Serbia) [GLOMAG] (Linked To: INKOP DOO CUPRIJA).

Designated pursuant to section 1(a)(iii)(B) of E.O. 13818 for being owned or controlled by, or having acted or purported to act for or on behalf of, directly or indirectly, INKOP DOO CUPRIJA, a person whose property and interests in property are blocked pursuant to E.O. 13818.

4. DOO BABUDOVAC BRNJAK (a.k.a. DOO BABUDOVAC PREDUZECE ZA PROIZVODNJU, TRGOVINU I USLUGE, BRNJAK), Brnjak Bb, Srpska Crnja, Serbia; Organization Established Date 22 Dec 2005; V.A.T. Number 104219987 (Serbia) [GLOMAG] (Linked To: RADISAVLJEVIC, Miljojko).

Designated pursuant to section 1(a)(iii)(B) of E.O. 13818 for being owned or controlled by, or having acted or purported to act for or on behalf of, directly or indirectly, Miljojko RADISAVLJEVIC, a person whose property and interests in property are blocked pursuant to E.O. 13818.

5. DOO MM KOM INTER BLUE DONJI JASENOVIK (a.k.a. PREDUZECE ZA PROIZVODNJU PROMET TRGOVINU I USLUGE MM KOM INTER BLUE DOO DONJI JASENOVIK), Donji Jasenovik 38228, Serbia; Organization Established Date 08 Mar 2013; Organization Type: Wholesale of other machinery and equipment; V.A.T. Number 107969124 (Serbia) [GLOMAG] (Linked To: RADISAVLJEVIC, Miljan).

Designated pursuant to section 1(a)(iii)(B) of E.O. 13818 for being owned or controlled by, or having acted or purported to act for or on behalf of, directly or indirectly, Miljan RADISAVLJEVIC, a person whose property and interests in property are blocked pursuant to E.O. 13818.

6. DOO RAD 028 ZVECAN (a.k.a. DRUSTVO SA OGRANICENOM ODGOVORNOSCU RAD 028 ZVECAN), Prote Stojana 4/2, Zvecan, Serbia; Organization Established Date 20 Jan 2014; Organization Type: Construction of other civil engineering projects; V.A.T. Number 108374390 (Serbia) [GLOMAG] (Linked To: STEVIC, Radule)

Designated pursuant to section 1(a)(iii)(B) of E.O. 13818 for being owned or controlled by, or having acted or purported to act for or on behalf of, directly or indirectly, Radule STEVIC, a person whose property and interests in property are blocked pursuant to E.O. 13818.

7. FARMA IZVORI B.I., Izvore, Kosovo; Organization Established Date 29 May 2015; Organization Type: Growing of pome fruits and stone fruits; Registration Number 71168433 (Kosovo) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

8. FERARI PREDUZEEE ZA USLUGE I PROMET POLOVNIM VOZILIMA SH.A., 40000 Mitrovice, Kosovo; Organization Established Date 20 Aug 2002; Organization Type: Wholesale of other machinery and equipment; Registration Number 80673094 (Kosovo) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

9. GARAC INZENJERING OOD, Tsar Osvoboditel, 168, Kyustendil 2500, Bulgaria; Organization Established Date 04 Dec 2014; V.A.T. Number BG203318394 (Bulgaria) [GLOMAG] (Linked To: RADOJCIC, Milan Rajko).

Designated pursuant to section 1(a)(iii)(B) of E.O. 13818 for being owned or controlled by, or having acted or purported to act for or on behalf of, directly or indirectly, Milan Rajko RADOJCIC, a person whose property and interests in property are blocked pursuant to E.O. 13818.

10. INKOP DOO CUPRIJA (a.k.a. GRADJEVINSKO PREDUZECE INKOP DOO CUPRIJA; a.k.a. “INKOP”), Karadordeva 6, Cuprija 35230, Serbia; Organization Established Date 12 May 1992; Organization Type: Construction of roads and railways; V.A.T. Number 100245351 (Serbia) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

11. MARKOM METAL COMMERCE DOO ZVECAN (a.k.a. MARKOM METAL COMMERCE DRUSTVO SA OGRANICENOM ODGOVORNOSCU, GRABOVAC), Grabovac 37240, Serbia; Organization Established Date 23 Jun 2008; V.A.T. Number 105767318 (Serbia) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

12. METAL-ROBNA KUCA (a.k.a. METAL-ROBNA KUCA ZVECAN), Kosovskih Junaka Bb, Zvecan 38227, Serbia; Organization Established Date 2005; Organization Type: Wholesale of construction materials, hardware, plumbing and heating equipment and supplies; Registration Number 20110708 (Serbia) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

13. NAUTIKACENTAR D.O.O. (a.k.a. NAUTIKACENTAR DRUSTVO S OGRANICENOM ODGOVORNOSCU ZA DJELATNOST MARINA, TRGOVINU I USLUGE), Zdravka Kucica 43, Rijeka 51000, Croatia; Organization Established Date 01 Jan 2000; V.A.T. Number HR12533377925 (Croatia) [GLOMAG] (Linked To: VESELINOVIC, Zharko Jovan).

Designated pursuant to section 1(a)(iii)(B) of E.O. 13818 for being owned or controlled by, or having acted or purported to act for or on behalf of, directly or indirectly, Zharko Jovan VESELINOVIC, a person whose property and interests in property are blocked pursuant to E.O. 13818.

14. NOVI PAZAR-PUT D.O.O. NOVI PAZAR (a.k.a. DRUSTVO SA OGRANICENOM ODGOVORNOSCU NOVI PAZAR-PUT NOVI PAZAR), Sabana Koce 67, Novi Pazar 36300, Serbia; Organization Established Date 20 Apr 2004; Organization Type: Construction of roads and railways; V.A.T. Number 100744723 (Serbia) [GLOMAG] (Linked To: INKOP DOO CUPRIJA).

Designated pursuant to section 1(a)(iii)(B) of E.O. 13818 for being owned or controlled by, or having acted or purported to act for or on behalf of, directly or indirectly, INKOP DOO CUPRIJA, a person whose property and interests in property are blocked pursuant to E.O. 13818.

15. P.P. BABUDOVAC B.I. (a.k.a. P.P. BABUDOVAC), 40650 Jasenovik I Poshtem, Kosovo; Organization Established Date 05 Feb 2004; Organization Type: Wholesale of food, beverages and tobacco; V.A.T. Number 600570825 (Kosovo) [GLOMAG] (Linked To: RADISAVLJEVIC, Miljan).

Designated pursuant to section 1(a)(iii)(B) of E.O. 13818 for being owned or controlled by, or having acted or purported to act for or on behalf of, directly or indirectly, Miljan RADISAVLJEVIC, a person whose property and interests in property are blocked pursuant to E.O. 13818.

16. P.P.ROBNA KUCA METAL B.I., Kralja Petra I 90, Zvecan, Kosovo; Organization Established Date 29 Aug 2013; Organization Type: Wholesale of other machinery and equipment; Registration Number 70985691 (Kosovo) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

17. RAD D.O.O., Kralja Petra I B.B., Zveqan 43000, Kosovo; Organization Established Date 01 Feb 2018; Organization Type: Construction of buildings; Registration Number 810091687 (Kosovo) [GLOMAG] (Linked To: STEVIC, Radule).

Designated pursuant to section 1(a)(iii)(B) of E.O. 13818 for being owned or controlled by, or having acted or purported to act for or on behalf of, directly or indirectly, Radule STEVIC, a person whose property and interests in property are blocked pursuant to E.O. 13818.

18. RADOVAN RADIC B.I., P.P. EU RR GRADNJA, Zupc 40650, Kosovo; Organization Established Date 13 Feb 2014; Organization Type: Construction of other civil engineering projects; V.A.T. Number 601071814 (Kosovo) [GLOMAG] (Linked To: RADIC, Radovan).

Designated pursuant to section 1(a)(iii)(B) of E.O. 13818 for being owned or controlled by, or having acted or purported to act for or on behalf of, directly or indirectly, Radovan RADIC, a person whose property and interests in property are blocked pursuant to E.O. 13818.

19. RADULE STEVIC B.I., P.T.P. RAD, Prote Sfojaha, Zveqan 38227, Kosovo; Organization Established Date 04 Apr 2013; Organization Type: Construction of buildings; Tax ID No. 600953708 (Kosovo) [GLOMAG] (Linked To: STEVIC, Radule).

Designated pursuant to section 1(a)(iii)(B) of E.O. 13818 for being owned or controlled by, or having acted or purported to act for or on behalf of, directly or indirectly, Radule STEVIC, a person whose property and interests in property are blocked pursuant to E.O. 13818.

20. ROBNA KUCA METAL D.O.O., Kralja Petra I 90, Zveqan 38227, Kosovo; Organization Established Date 21 Aug 2017; Organization Type: Wholesale of other machinery and equipment; Registration Number 810051061 (Kosovo) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

21. S.Z.T.R. PRIZMA B.I. (a.k.a. SAMOSTALNA ZANATSKA TRGOVINSKA RADNJA PRIZMA), 40000 Mitrovice, Kosovo; Organization Established Date 10 Dec 2001; Organization Type: Construction of other civil engineering projects; Registration Number 80581564 (Kosovo) [GLOMAG] (Linked To: VESELINOVIC, Zvonko).

Designated pursuant to section 1(a)(iii)(B) of E.O. 13818 for being owned or controlled by, or having acted or purported to act for or on behalf of, directly or indirectly, Zvonko VESELINOVIC, a person whose property and interests in property are blocked pursuant to E.O. 13818.

22. SINISA NEDELJKOVIC B.I., P.T.P. METAL, 90, Kralja Petra I, Zveqan 38227, Kosovo; Organization Established Date 09 Aug 2001; Organization Type: Wholesale of other machinery and equipment; V.A.T. Number 600351845 (Kosovo) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

23. SINISA NEDELJKOVIC I.B., Glavna Bb, Shterpce 73000, Kosovo; Organization Established Date 03 Sep 2015; Organization Type: Restaurants and mobile food service activities; V.A.T. Number 601337753 (Kosovo) [GLOMAG] (Linked To: NEDELJKOVIC, Sinisa).

Designated pursuant to section 1(a)(iii)(B) of E.O. 13818 for being owned or controlled by, or having acted or purported to act for or on behalf of, directly or indirectly, Sinisa NEDELJKOVIC, a person whose property and interests in property are blocked pursuant to E.O. 13818.

24. ZARKO VESELINOVIC B.I., S.T.R. KRISTAL (a.k.a. ZARKO VESELINOVIC B.I.), Kralja Petra I, Mitrovice 40000, Kosovo; Organization Established Date 21 Feb 2005; Registration Number 70234903 (Kosovo) [GLOMAG] (Linked To: VESELINOVIC, Zharko Jovan).

Designated pursuant to section 1(a)(iii)(B) of E.O. 13818 for being owned or controlled by, or having acted or purported to act for or on behalf of, directly or indirectly, Zharko Jovan VESELINOVIC, a person whose property and interests in property are blocked pursuant to E.O. 13818.

Authority: E.O. 13818, 82 FR 60839, 3 CFR, 2018 Comp., p. 399.

Dated: December 20, 2021.
Andrea Gacki,
Director, Office of Foreign Assets Control, U.S. Department of the Treasury.

[FR Doc. 2021-27855 Filed 12-22-21; 8:45 am]

BILLING CODE 4810-AL-P